FEDERAL MARITIME COMMISSION

[Docket No. 10-11]

Smart Garments v. Worldlink Logix Services, Inc.; Notice of Filing of Complaint and Assignment

Notice is given that a complaint has been filed with the Federal Maritime Commission (“Commission”) by Smart Garments (“SG”), hereinafter “Complainant,” against WORLDLINK LOGIX SERVICE, INC. (“WLLS”). Complainant asserts that it is a “registered partnership firm duly under Indian Law” and a manufacturer and exporter of garments. Complainant alleges that Respondent WLLS is a “freight forwarder/common carrier” incorporated in New York and licensed by the Commission.

Complainant states that it engaged Respondent as “a shipping agency” to ship two containers from Chennai, India to New York and that the cargo was delivered. Complainant alleges that such deliveries “were to be made by WLLS to the buyer, only after surrender of the original Bill of Lading.” Complainant further alleges that the “consignments were wrongfully delivered to the buyer [by WLLS], without receiving the endorsed Bill of Lading * * *.” Complainant asserts that “the shipment is still unpaid.”

Complainant alleges that Respondents violated the Shipping Act of 1984 by: (1) Giving information about the shipment without the consent of the shipper; and (2) “releasing the goods without original Bill of Lading with malafide intention to cheat and defraud”; and by doing so knowingly disclosed information about the shipment without consent of the shipper and to its detriment and failed to observe and enforce just and reasonable practices relating to or connected with the receiving, handling, sorting or delivering property in violation of Sections 10(b)(13) and 10(d)(1) of the Shipping Act, 46 U.S.C. 41103(a) and 41102(c). Complainant asserts that as a result of the unpaid shipment, it is “losing goodwill, business opportunities and loss of further orders from our prospective customers and bankers.”

Complainant seeks reparations for its lost payment, “interest on investments for past 8 [m]onths”, “[d]amages toward loss of [b]usiness, [g]oodwill and [o]pportunities”, and “[c]ompensation for mental agony.” Complainant asks the Commission to order reparations in the amount of $84,594, and to impose any other relief as the Commission determines to be proper, fair, and just.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by November 30, 2011 and the final decision of the Commission shall be issued by March 29, 2012.

Karen V. Gregory,
Secretary.

[FR Doc. 2010-30436 Filed 12-3-10; 8:45 am]

BILLING CODE P